DEPARTMENT OF COMMERCE

National Institute of Standards and Technology

Proposed Information Collection; Comment Request; National Voluntary Laboratory Accreditation Program (NVLAP), NVLAP Information Collection System

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before October 14, 2003.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to the attention of Vanda R. White, National Voluntary Laboratory Accreditation Program, National Institute of Standards and Technology, 100 Bureau Drive, Stop 2140, Gaithersburg, MD 20899-2140; phone (301) 975-3592. In addition, written comments may be sent via e-mail to vanda.white@nist.gov.

SUPPLEMENTARY INFORMATION:

I. Abstract

This information is collected from all laboratories, testing and calibration, that apply for NVLAP accreditation. Applicants provide the minimum information necessary to evaluate the competency of laboratories to carry out specific tests or calibrations or types of tests or calibrations. The collection is mandated by 15 CFR 285.

II. Method of Collection

An paper form application for accreditation is provided to each applicant laboratory. The application request, such information as name, address, phone and fax numbers, and contact person, and the test methods or parameters. The application must be signed by the Authorized Representative of the laboratory, committing the laboratory to comply with NVLAP's accreditation criteria. The completed application is submitted to NVLAP.

III. Data

OMB Number: 0693-0003.

Form Numbers: None.

Type of Review: Regular submission.

Affected Public: Business or other for-profit organizations, not-for-profit institutions, and federal, state or local government laboratories.

Estimated Number of Respondents: 850.

Estimated Time Per Response: Ranges between 15 minutes for respondents verifying information on a preprinted form and 3 hours for those providing an initial application.

Estimated Total Annual Respondent Burden Hours: 2,338.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: August 8, 2003.
Gwellnar Banks,
Management Analyst, Office of the Chief Information Officer.

[FR Doc. 03-20610 Filed 8-12-03; 8:45 am]

BILLING CODE 3510-CN-P